DEPARTMENT OF LABOR

Bureau of Labor Statistics

Business Research Advisory Council; Notice of Meetings and Agenda

The regular Spring meetings of the Business Research Advisory Council and its committees will be held on April 13 and 14, 2005. All of the meetings will be held in the Conference Center of the Postal Square Building, 2 Massachusetts Avenue, NE., Washington, DC.

The Business Research Advisory Council and its committees advise the Bureau of Labor Statistics with respect to technical matters associated with the Bureau's program. Membership consists of technical officials from American business and industry.

The schedule and agenda for the meetings are as follows:

Wednesday, April 13, 2005—Conference Rooms 9 and 10

10-11:30 a.m.—Committee on Occupational Safety and Health

1. 2003 Survey of Occupational Injuries and Illnesses Results

a. December Summary Release

b. March Case and Demographics Release

2. 2002 Data on Time of Event and Time Shift Started (released December 2, 2004)

3. Update on the Special Survey on Workplace Violence Prevention Practices

4. Occupational Safety and Health Statistics Strategic Planning (including a discussion of potential updates to OIICS)

5. Years of Potential Life Lost (Another Measure of Workplace Fatalities)

6. Budget Update

7. Other Business

8. Discussion of agenda items for the Fall 2005 meeting

1-2:30 p.m.—Committee on Price Indexes

1. Transfer Pricing in the International Price Program

2. Outlet Effects in the Consumer Price Index

3. Review of other program developments

4. Discussion of agenda items for the Fall 2005 meeting

3-4:30 p.m.—Committee on Compensation and Working Conditions

1. Upcoming changes in the Employment Cost Index

a. Presentation on switch to the North American Industry Classification System and the Standard Occupational Classification system, reweighting and rebasing, and methodological changes

b. Discussion of publication plans and continuity concerns

2. Research proposes new measure:

Presentation on the Employment Cost Index excluding incentive paid workers

3. Research opportunities:

Discussion of possible additional Employment Cost Index series

4. Discussion of agenda items for the Fall 2005 meeting

Thursday, April 14, 2005—Conference Rooms 9 & 10

8:30-10 a.m.—Committee on Productivity and Foreign Labor Statistics

1. Industry labor productivity updates plan and improvement initiatives

2. Productivity and costs measures for new service industries

3. Employment and compensation data for China

4. Current international technical cooperation activities

5. Discussion of agenda items for the Fall 2005 meeting

10:30 a.m.-12 p.m.—Council Meeting

1. Council Chair's remarks

2. Commissioner's remarks

3. Discussion of agenda items for the Fall 2005 council meeting

1:30-3 p.m.—Committee on Employment and Unemployment Statistics

1. House of Representatives resolution on BLS measurement of employment—request for BRAC recommendations for research or options to explore for improving measurement.

2. Current Employment Statistics (CES) survey planned revisions

3. Estimating the impact of natural disasters on monthly employment measures—request for BRAC input on the best approach given measurement limitations

4. Proposed revision to North American Industry Classification System

5. NAICS for 2007

6. Discussion of agenda items for the Fall 2005 meeting

The meetings are open to the public. Persons wishing to attend these meetings as observers should contact Tracy A. Jack, Liaison, Business Research Advisory Council, at 202-691-5869.

Signed at Washington, DC, the 11th day of March, 2005.
Kathleen P. Utgoff,
Commissioner.

[FR Doc. 05-5577 Filed 3-21-05; 8:45 am]

BILLING CODE 4510-24-P